DEPARTMENT OF TRANSPORTATION

Federal Transit Administration

Federal Highway Administration

Environmental Impact Statement: City and County of Denver, CO

AGENCIES: Federal Transit Administration (FTA), Federal Highway Administration, Department of Transportation (DOT).

ACTION: Revised Notice of Intent.

SUMMARY: The FTA and FHWA are jointly issuing this Revised Notice of Intent to advise the public that the joint Environmental Impact Statement/Section 4(f) Evaluation (EIS/4(f)) for transit and highway improvements in the City and County of Denver, Adams County, and the City of Aurora, Colorado will be revised to create two separate environmental documents. Previously, the transit and highway improvements were being evaluated as part of a combined highway and transit study. Recently, the agencies working on the combined project decided to prepare separate EISs for the different highway and transit project elements. This Revised Notice of Intent provides notice for the separate transit and highway EIS/4(f)s that are being prepared.

FOR FURTHER INFORMATION CONTACT: For transit: Dave Beckhouse, Community Planner, FTA, 12300 West Dakota Avenue, Suite 310, Denver, CO, 80228, Telephone: (720) 963-3306. Mike Turner, Regional Transportation District, 1560 Broadway, Suite 700, Denver, CO, 80202, Telephone: (303) 299-2366.

For highway: Chris Horn, Senior Operations Engineer, FHWA, 12300 West Dakota Avenue, Suite 180, Lakewood, Colorado 80228, Telephone 720 963 3017. Sharon Lipp Colorado Department of Transportation, Region 6, 3840 York Street, Suite 130, Denver, Colorado 80205, Telephone 303 294 9300.

SUPPLEMENTARY INFORMATION: On August 19, 2003, the FTA and FHWA, in cooperation with the Regional Transportation District (RTD), Colorado Department of Transportation (CDOT), and City and County of Denver published a Notice of Intent to prepare an Environmental Impact Statement for proposed transportation improvements in the City and County of Denver, Adams County and the City of Aurora. FTA will now prepare an Environmental Impact Statement/Section 4(f) Evaluation (EIS/4(f) for transit improvements proposed in the East Corridor between downtown Denver and Denver International Airport (DIA). FHWA will now prepare an Environmental Impact Statement/4(f) Evaluation (EIS/4(f) for highway improvements on Interstate 70 (I-70) between Interstate 25 (I-25) and Tower Road. The purpose of the proposed actions is to improve safety, mobility, and access, and decrease congestion. Currently downtown Denver is the center for rail and bus transit in the region. DIA is a critical link in the regional and national transportation network. The I-70 East Corridor is one of the mot heavily traveled and congested corridors in the region and state. Highway safety issues revolve around the age and design features of the interchanges and roadway.

Project scoping was conducted in 2003 as part of the joint project between FHWA, CDOT, FTA, RTD, and Denver. However, since that time the FTA and FHWA have decided to prepare separate EISs for the transit and highway elements.

Scoping included various coordination activities with affected parties, stakeholders, organization, Federal, State and local agencies; agency scoping meetings; and through community outreach and public meetings in the project corridor. In addition, a variety of grassroots outreach techniques have been used including a door-to-door campaign for some of the neighborhoods, flyers, block and neighborhood meetings, and business and community-organization outreach meetings. To be placed on the public mailing list to receive additional project information, contact Mike Turner (RTD) and/or Sharon Lipp (CDOT) at the address previously provided.

Comments or questions concerning these proposed actions and the EIS Section 4(f) Evaluations should be directed to Dave Beckhouse (FTA) and/or Chris Horn (FHWA) at the addresses previously provided.

The EIS/Section 4(f) Evaluations will evaluate improvement alternatives and the Non-action alternative based on the Purpose and Need developed for the corridor. alternatives have been developed thorough an extensive agency and community outreach process. A full range of potential alignments and corridors were considered for both transit and highway alternatives.

The East Corridor EIS will result in a decision concerning transit improvements, if any, to be built to improve mobility in the corridor. The I-70 East EIS will result in a decision about which highway improvements, if any, will be built to improve safety and address congestion.

East Corridor EIS

The alternatives evaluated in the Draft EIS (DEIS) and Section 4(f) Evaluation will include, but not be limited to, bus and rail technologies. Rail transit along the Union Pacific Railroad corridor from downtown Denver to DIA and enhancements to the existing transit system to connect to the East Corridor will also be evaluated. As part of the transit evaluations, station locations will be identified and studied as appropriate.

FTA will analyze social, economic, and environmental impacts of the various alternatives. Other major issues to be evaluated include air quality, noise, vibration, community cohesion impacts, and possible disruption of neighborhoods and business and commercial activities.

The DEIS will be available for public and agency review and comment. Information concerning the availability of the DEIS will be published at a later date.

I-70 East EIS

The alternatives evaluated in the Draft EIS (DEIS) and Section 4(f) Evaluation will include, but not be limited to, variations of the horizontal and vertical alignment of I-70 as well as capacity and safety improvements. Existing and future interchanges will also be evaluated.

FHWA will evaluate social, economic, and environmental impacts of the various alternatives. A major concern is environmental justice. I-70 passes through three older communities that have been affected by several actions on I-70 beginning with the initial construction of I-70 in the 1960s and subsequent actions including reconstruction of the I-70 viaduct and roadway widening on the western segment of the Corridor. Other major issues to be evaluated include air quality, noise, aesthetics, community cohesion impacts, and possible disruption of neighborhoods and business and commercial activities.

The DEIS will be available for public and agency review and comment. Information concerning the availability of the DEIS will be published at a later date.

(Catalog of Federal Domestic Assistance Program Number 20.205, Highway Planning and Construction. The regulations implementing Executive Order 12372 regarding intergovernmental consultation on Federal programs and activities apply to this program.)

Lee O. Waddleton,
Regional Administrator, Federal Transit Administration, 12300 W. Dakota Ave. Suite 310, Lakewood, Colorado 80228-2583.
David Nicol,
Division Administrator, Federal Transit Administration, 12300 W. Dakota Ave. Suite 180, Lakewood, Colorado 80228-2583.

[FR Doc. 06-5879 Filed 6-29-06; 8:45 am]

BILLING CODE 4910-22-M